DEPARTMENT OF ENERGY

Federal Energy Regulatory Commission

Combined Notice of Filings #1

Take notice that the Commission received the following electric corporate filings:

Docket Numbers: EC20-97-000.

Applicants: Sugar Creek Wind One LLC.

Description: Application for Authorization Under Section 203 of the Federal Power Act, et al. of Sugar Creek Wind One LLC.

Filed Date: 9/1/20.

Accession Number: 20200901-5323.

Comments Due: 5 p.m. ET 9/22/20.

Take notice that the Commission received the following exempt wholesale generator filings:

Docket Numbers: EG20-240-000.

Applicants: Wilmot Energy Center, LLC.

Description: Notice of Self-Certification of Exempt Wholesale Generator Status of Wilmot Energy Center, LLC.

Filed Date: 9/1/20.

Accession Number: 20200901-5302.

Comments Due: 5 p.m. ET 9/22/20.

Take notice that the Commission received the following electric rate filings:

Docket Numbers: ER20-942-002.

Applicants: Midcontinent Independent System Operator, Inc.

Description: Compliance filing: 2020-08-31_Additional Compliance filing to PJM-JOA related to Affected Systems to be effective 4/6/2020.

Filed Date: 8/31/20.

Accession Number: 20200831-5391.

Comments Due: 5 p.m. ET 9/21/20.

Docket Numbers: ER20-943-002.

Applicants: Southwest Power Pool, Inc.

Description: Compliance filing: Compliance Filing Revising SPP-MISO JOA in Response to June 30 Order to be effective 4/4/2020.

Filed Date: 8/31/20.

Accession Number: 20200831-5375.

Comments Due: 5 p.m. ET 9/21/20.

Docket Numbers: ER20-944-002.

Applicants: PJM Interconnection, L.L.C.

Description: Compliance filing: Compliance to Revise JOA in Docket Nos. EL18-26 and ER20-944 to be effective 4/6/2020.

Filed Date: 8/31/20.

Accession Number: 20200831-5403.

Comments Due: 5 p.m. ET 9/21/20.

Docket Numbers: ER20-945-001.

Applicants: Southwest Power Pool, Inc.

Description: Compliance filing: Compliance Filing Revising Tariff in Response to June 30 Order to be effective 4/4/2020.

Filed Date: 8/31/20.

Accession Number: 20200831-5380.

Comments Due: 5 p.m. ET 9/21/20.

Docket Numbers: ER20-2376-001.

Applicants: Duke Energy Indiana, LLC.

Description: Tariff Amendment: DEI-Vectren—Unexecuted Interconnection Agreement—Extension Request to be effective 6/11/2020.

Filed Date: 9/2/20.

Accession Number: 20200902-5148.

Comments Due: 5 p.m. ET 9/23/20.

Docket Numbers: ER20-2794-000.

Applicants: American Electric Power Service Corporation, Ohio Power Company, AEP Ohio Transmission Company, Inc., PJM Interconnection, L.L.C.

Description: § 205(d) Rate Filing: AEP submits ILDSA, SA No. 1336 and Trail FA to be effective 11/2/2020.

Filed Date: 9/1/20.

Accession Number: 20200901-5251.

Comments Due: 5 p.m. ET 9/22/20.

Docket Numbers: ER20-2795-000.

Applicants: NorthWestern Corporation, Southwest Power Pool, Inc.

Description: § 205(d) Rate Filing: NorthWestern update to Formula Rate and Protocols to be effective 11/1/2020.

Filed Date: 9/1/20.

Accession Number: 20200901-5265.

Comments Due: 5 p.m. ET 9/22/20.

Docket Numbers: ER20-2796-000.

Applicants: PJM Interconnection, L.L.C.

Description: § 205(d) Rate Filing: Original ISA, SA No. 5736; Queue No. AF1-326 to be effective 8/10/2020.

Filed Date: 9/1/20.

Accession Number: 20200901-5269.

Comments Due: 5 p.m. ET 9/22/20.

Docket Numbers: ER20-2797-000.

Applicants: PJM Interconnection, L.L.C.

Description: § 205(d) Rate Filing: Original WMPA, Service Agreement No. 5754; Queue No. AF2-289 to be effective 8/18/2020.

Filed Date: 9/2/20.

Accession Number: 20200902-5063.

Comments Due: 5 p.m. ET 9/23/20.

Docket Numbers: ER20-2798-000.

Applicants: PJM Interconnection, L.L.C.

Description: § 205(d) Rate Filing: Original ISA, SA No. 5738; Queue No. AF1-327 to be effective 8/10/2020.

Filed Date: 9/2/20.

Accession Number: 20200902-5130.

Comments Due: 5 p.m. ET 9/23/20.

Docket Numbers: ER20-2799-000.

Applicants: PJM Interconnection, L.L.C.

Description: § 205(d) Rate Filing: Revisions to the OATT, OA, and RAA re GDECS 5 and Standard Formatting to be effective 11/2/2020.

Filed Date: 9/2/20.

Accession Number: 20200902-5142.

Comments Due: 5 p.m. ET 9/23/20.

Docket Numbers: ER20-2800-000.

Applicants: Southwestern Public Service Company.

Description: § 205(d) Rate Filing: 2020-09-02_SPS-OEDC Construction Agrmt-719-000-0.0.0 to be effective 9/3/2020.

Filed Date: 9/2/20.

Accession Number: 20200902-5151.

Comments Due: 5 p.m. ET 9/23/20.

Docket Numbers: ER20-2801-000.

Applicants: Arizona Public Service Company.

Description: § 205(d) Rate Filing: Rate Schedule No. 217, Exhibit B.GLA to be effective 11/2/2020.

Filed Date: 9/2/20.

Accession Number: 20200902-5156.

Comments Due: 5 p.m. ET 9/23/20.

Docket Numbers: ER20-2802-000.

Applicants: PacifiCorp.

Description: § 205(d) Rate Filing: Deseret TSOA Rev 7 to be effective 11/1/2020.

Filed Date: 9/2/20.

Accession Number: 20200902-5157.

Comments Due: 5 p.m. ET 9/23/20.

Docket Numbers: ER20-2803-000.

Applicants: Nevada Power Company.

Description: § 205(d) Rate Filing: Service Agreement No. 18-00087 NPC—Sunshine Valley Solar EPC Amended to be effective 9/3/2020.

Filed Date: 9/2/20.

Accession Number: 20200902-5224.

Comments Due: 5 p.m. ET 9/23/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2020.
Nathaniel J. Davis, Sr.,
Deputy Secretary.

[FR Doc. 2020-19860 Filed 9-8-20; 8:45 am]

BILLING CODE 6717-01-P